NUCLEAR REGULATORY COMMISSION

[NRC-2011-0270]

Solicitation of Feedback on the Effectiveness of the Reactor Oversight Process

AGENCY: Nuclear Regulatory Commission.

ACTION: Request for public participation in survey.

SUMMARY: The U.S. Nuclear Regulatory Commission (NRC or the Commission) is soliciting survey input from members of the public, licensees, and interest groups related to the effectiveness of the Reactor Oversight Process (ROP). This solicitation will provide insights into the self-assessment process, and a summary of the survey results will be included in the annual ROP self-assessment report to the Commission.

DATES: Complete and submit survey forms by January 13, 2012. The NRC will consider survey forms received after this date if it is practical to do so, but is able to ensure consideration of only survey forms received on or before this date.

ADDRESSES: The electronic, fillable version of the survey questions may be obtained at http://www.nrc.gov/NRR/OVERSIGHT/ASSESS/2011ROPsurvey.pdf. For additional instructions on submitting surveys and instructions on accessing documents related to this action, see Section I, “Submitting Surveys and Accessing Information,” of the SUPPLEMENTARY INFORMATION section of this document. If you cannot access the electronic, fillable version of the survey, contact the individual listed in the FOR FURTHER INFORMATION CONTACT section of this document to receive a copy of the survey.

You may submit survey forms by any one of the following methods (there is no need to submit via more than one method):

• Email the fillable survey forms: After completing the electronic, fillable version of the survey obtained from the Web site previously provided, select the “Submit Survey” button on the survey form.

• Email scanned survey forms to: ROPSurvey@nrc.gov.

• Mail survey forms to: Cindy Bladey, Chief, Rules, Announcements, and Directives Branch (RADB), Office of Administration, Mail Stop: TWB-05-B01M, U.S. Nuclear Regulatory Commission, Washington, DC 20555-0001. Please include the Docket ID NRC-2011-0270 in the subject line of your submission.

FOR FURTHER INFORMATION CONTACT: Ms. Jocelyn Lian, Office of Nuclear Reactor Regulation, U.S. Nuclear Regulatory Commission, Washington DC 20555-0001; telephone: (301) 415-4666, email: Jocelyn.Lian@nrc.gov.

SUPPLEMENTARY INFORMATION:

I. Submitting Surveys and Accessing Information

Surveys submitted in writing or in electronic form will be posted on the NRC Web site and on the Federal rulemaking Web site, http://www.regulations.gov. Because your submission will not be edited to remove any identifying or contact information, the NRC cautions you against including any information in your submission that you do not want to be publicly disclosed.

The NRC requests that any party soliciting or aggregating information received from other persons for submission to the NRC inform those persons that the NRC will not edit their submission to remove any identifying or contact information; therefore, they should not include any information in their submission that they do not want publicly disclosed.

You can access publicly available documents related to this action using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. The Federal Register notice Soliciting Feedback on the Implementation of the Reactor Oversight Process is available electronically under ADAMS Accession Number ML112030166.

• Federal Rulemaking Web Site: Public survey submissions and supporting materials related to this action can be found at http://www.regulations.gov by searching on Docket ID NRC-2011-0270.

Information regarding the ROP and licensee performance can be found at http://www.nrc.gov/NRR/OVERSIGHT/ASSESS/index.html. In addition, the Commission paper may be accessed at this link when completed.

II. Program Overview

The mission of the NRC is to license and regulate the Nation's civilian use of byproduct, source, and special nuclear materials to ensure adequate protection of public health and safety, promote the common defense and security, and protect the environment. This mission is accomplished through the following activities:

1. The NRC issues licenses for the possession, use, and disposal of nuclear materials;

2. The NRC develops and implements requirements governing licensed activities; and

3. The NRC inspects licensee activities to ensure compliance with regulatory requirements and the law.

Although the NRC's responsibility is to monitor and regulate licensees' performance, the primary responsibility for safe operation and handling of nuclear materials rests with each licensee.

As the nuclear industry in the United States has matured, the NRC and its licensees have learned much about how to safely operate nuclear facilities and handle nuclear materials. In April 2000, the NRC began to implement more effective and efficient inspection, assessment, and enforcement approaches, which apply insights from these years of regulatory oversight and nuclear facility operation. Key elements of the ROP include NRC inspection procedures, plant performance indicators, a significance determination process, and an assessment program that incorporates various risk-informed thresholds to help determine the level of NRC oversight. Since ROP development, the NRC has frequently communicated with the public by various initiatives: conducting public meetings in the vicinity of each licensed commercial nuclear power plant, issuing Federal Register notices to solicit feedback on the ROP, publishing press releases about the process, conducting multiple public workshops, placing pertinent background information in the NRC's PDR, and maintaining an NRC Web site containing easily accessible information about the ROP and licensee performance.

III. NRC Public Stakeholder Comments

The NRC is seeking feedback from members of the public, various public stakeholders, and industry groups on their insights regarding the effectiveness of the ROP in Calendar Year (CY) 2011. Responses received will provide important information for ongoing program improvement. A summary of the survey results obtained will be provided to the Commission and included in the annual ROP self-assessment report. The past reports can be found at http://www.nrc.gov/NRR/OVERSIGHT/ASSESS/program-evaluations.html#section3.

This solicitation of public comments has been issued each year since ROP implementation in 2000. Currently, the external survey frequency is biennial.

IV. Survey

An electronic, fillable version of the survey questions may be obtained at http://www.nrc.gov/NRR/OVERSIGHT/ASSESS/2011ROPsurvey.pdf. If you have problems accessing the electronic, fillable version of the survey, contact the individual listed in the FOR FURTHER INFORMATION CONTACT section of this document to receive a copy of this survey. You may submit the survey to the NRC by any one of the methods listed in the ADDRESSES section of this document. The NRC does not plan to provide specific responses to the submissions received during this solicitation. The survey submissions will provide insights into the self-assessment process and a summary of the survey results will be included in the annual ROP self-assessment report to the Commission.

V. Paperwork Reduction Act

This survey contains information collections that are subject to the Paperwork Reduction Act of 1995 (44 U.S.C. 3501 et seq.). These information collections were approved by the Office of Management and Budget (OMB), Approval Number 3150-0197, which expires August 31, 2012.

The burden to the public for these voluntary information collections is estimated to be 45 minutes per response. The information gathered will be used in the NRC's self-assessment of the reactor oversight process. Send comments regarding this burden estimate to the Information Services Branch (T-5 F53), U.S. Nuclear Regulatory Commission, Washington, DC 20555-0001, or by Internet electronic mail to INFOCOLLECTS.RESOURCE@NRC.GOV; and to the Desk Officer, Chad Whiteman, Office of Information and Regulatory Affairs, NEOB-10202, (3150-0197), Office of Management and Budget, Washington, DC 20503.

Public Protection Notification

The NRC may not conduct or sponsor, and a person is not required to respond to, a request for information or an information collection requirement unless the requesting document displays a currently valid OMB control number.

Dated at Rockville, Maryland, this 18th day of November, 2011.
For the U.S. Nuclear Regulatory Commission.
John Lubinski,
Deputy Director, Division of Inspection & Regional Support, Office of Nuclear Reactor Regulation.

[FR Doc. 2011-30716 Filed 11-28-11; 8:45 am]

BILLING CODE 7590-01-P